DEPARTMENT OF TRANSPORTATION

14 CFR Part 71

[Airspace Docket No. 00-AGL-10]

Establishment of Class E Airspace; Minneapolis, Crystal Airport, MN; Correction

AGENCY: Federal Aviation Administration (FAA), DOT.

ACTION: Final rule; correction.

SUMMARY: This action corrects an error in the legal description of a final rule that was published in the Federal Register on Wednesday, June 28, 2000 (65 FR 39792), Airspace Docket No. 00-AGL-10. The final rule established Class E Airspace at Minneapolis, Crystal Airport, MN.

EFFECTIVE DATE: 0901 UTC, October 5, 2000.

FOR FURTHER INFORMATION CONTACT: Denis C. Burke, Air Traffic Division, Airspace Branch, AGL-520, Federal Aviation Administration, 2300 East Devon Avenue, Des Plaines, IL 60018; telephone: (847) 294-7477.

SUPPLEMENTARY INFORMATION:

History

Federal Register Document 00-16335, Airspace Docket No. 00-AGL-10, published on June 28, 2000 (65 FR 39792), established Class E Airspace at Minneapolis, Crystal Airport, MN. An error in the legal description for the Class E airspace for Minneapolis, Crystal Airport, MN, was published. This action corrects that error.

Correction to Final Rule

Accordingly, pursuant to the authority delegated to me, the legal description for the Class E airspace, Minneapolis, Crystal Airport, MN, as published in the Federal Register June 28, 2000 (65 FR 39792), (FR Doc. 00-16335), is corrected as follows:

PART 71—[CORRECTED]

§ 71.1 [Corrected]

On page 39792, Column 3, line 25, change (lat. 43°03′43″ N., long. 93°21′14″ W.) to (lat. 45°03′43″ N., long. 93°21′14″ W.).

Issued in Des Plaines, Illinois on July 12, 2000.
Christopher R. Blum,
Manager, Air Traffic Division.

[FR Doc. 00-18887 Filed 7-25-00; 8:45 am]

BILLING CODE 4910-13-M